DEPARTMENT OF COMMERCE

National Oceanic and Atmospheric Administration

RIN 0648-XC38

Marine Mammals; File No. 1034-1854

AGENCY: National Marine Fisheries Service (NMFS), National Oceanic and Atmospheric Administration (NOAA), Commerce.

ACTION: Notice; issuance of permit amendment.

SUMMARY: Notice is hereby given that Dr. Markus Horning, Department of Fisheries & Wildlife, Oregon State University, Hatfield Marine Science Center, 2030 SE Marine Science Drive, Newport, OR 97365 has been issued an amendment to scientific research Permit No. 1034-1854.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: On September 10, 2007, notice was published in the Federal Register (72 FR 51621) that an amendment of Permit No. 1034-1854, had been requested by the above-named individual. The requested amendment has been granted under the authority of the Marine Mammal Protection Act of 1972, as amended (16 U.S.C. 1361 et seq.), and the regulations governing the taking and importing of marine mammals (50 CFR part 216).

The permit amendment authorizes the permit holder to (1) increase the number of blood samples taken from animals with Evans blue dye administered; (2) leave satellite data transmitters on adult females until they fall off during the annual molt, rather than removing them at the end of the field season; and (3) opportunistically attach satellite transmitters to selected adult females older than 21 years when first encountered, for subsequent recapture, sampling, and outfitting with remaining telemetry devices. The permit holder is also authorized to collect opportunistic fecal samples and import them into the U.S..

In compliance with the National Environmental Policy Act of 1969 (42 U.S.C. 4321 et seq.), a final determination has been made that the activity proposed is categorically excluded from the requirement to prepare an environmental assessment or environmental impact statement.

Dated: November 21, 2007.
P. Michael Payne,
Chief, Permits, Conservation and Education Division, Office of Protected Resources, National Marine Fisheries Service.

[FR Doc. E7-23063 Filed 11-26-07; 8:45 am]

BILLING CODE 3510-22-S